DEPARTMENT OF COMMERCE

International Trade Administration

Proposed Information Collection; Comment Request; Survey of International Air Travelers

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before April 16, 2018.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Richard Champley or Claudia Wolfe, ITA National Travel & Tourism Office (NTTO), 1401 Constitution Ave. NW, Washington, DC 20230, Contact information: richard.champley@trade.gov (202) 482-4753 or claudia.wolfe@trade.gov (202) 482-4555.

SUPPLEMENTARY INFORMATION:

I. Abstract

The “Survey of International Air Travelers” (Survey) program, administered by the National Travel and Tourism Office (NTTO) of the International Trade Administration provides source data required to (1) estimate international travel and passenger fare exports, imports and the trade balance for the United States, (2) comply with the U.S. Travel Promotion Act of 2009 (Pub. L. 111-145), collect a one percent sample of inbound travelers, analyze and report information to government and industry stakeholders, and support the increase of U.S. exports, (3) to comply with the 1961, 1981, and 1996 travel and tourism related acts to collect and publish comprehensive international travel and tourism, statistics and other marketing information, and (4) support the continuation of the Travel & Tourism Satellite Accounts for the United States, which provide the only spending and employment figures for the industry, and (5) to support the goals of objectives of the National Travel & Tourism Strategy.

The Survey program contains the core data that is collected, analyzed and communicated by NTTO with other government agencies, associations and businesses that share the same objective of increasing U.S. international travel exports. The Survey assists NTTO in assessing the economic impact of international travel on state and local economies, providing visitation estimates, key market intelligence, and identifying traveler and trip characteristics. The U.S. Department of Commerce assists travel industry enterprises to increase international travel and passenger fare exports for the country as well as outbound travel on U.S. carriers. The Survey program provides the only available estimates of nonresident visitation to the states and cities within the United States, as well as U.S. resident travel abroad.

A revised survey instrument (questionnaire) (English version plus its translations into eleven foreign languages) was implemented in 2012. It reflects input from over 70 respondents, including: Travel Industry (airlines, travel associations, destinations, lodging); Consultants; Financial Firms; Educational Institutions; and other U.S. Government Agencies. A minor (`non-substantive') change was implemented in 2016 to better reflect the visitor's entry experience into the U.S. This was requested by the U.S. Department of Commerce Travel and Tourism Advisory Board to measure compliance with U.S. National Goals.

The revised Survey questionnaire reflects changes in various questions relating to: Trip purpose; Payment methods; Booking/Information sources; additional package components, health care/vaccinations, travel insurance information, additional transportation utilized, Assessment of the visitor's entry and overall experience; and intentions for further travel to the United States; Ethnicity/race. Several questions from the pre-existing 1996 questionnaire were eliminated to further streamline the survey.

II. Method of Collection

The survey instrument/questionnaire (`Survey of International Air Travelers', a/k/a SIAT) continues to be in paper format and is self-administered by the passenger who volunteers to take the survey, either while in the departure gate area or on-board the flight. The flights are selected randomly and this approach is described as `cluster sampling.' The majority (90%) of the passenger surveys are collected in U.S. airport departure gate areas. About 10% of all the passenger surveys are collected during flight (on-board) post departure (Canada is not part of the program). U.S. and foreign flag airlines that volunteer to participate in the Survey program enable the collection either in U.S. departure gate areas or on-board flights.

NTTO is planning to change the format to electronic or to an equally statistically valid process once compelling results have been attained. To date there have been four `e-Survey' tests: The first test in partnership with Global Distribution Systems (GDS), the second and third tests with major airlines in their respective boarding areas to leverage passenger's personal electronic devices (PED) and Wi-Fi capabilities in the airports and on-board certain flights, and the fourth test used `tablet' devices to capture passenger responses in the airport gate areas. Other tests are planned in the foreseeable future based on the results of NTTO's recent request for information as preparation for the next contract cycle.

III. Data

OMB Control Number: 0625-0227.

Form Number(s): None.

Type of Review: Regular submission [extension of a current information collection].

Affected Public: Individuals or households.

Estimated Number of Respondents: 300,000 due to mandate of the Travel Promotion Act of 2009 which requires a `one percent' sample of overseas arrivals.

Estimated Time per Response: 15 minutes.

Estimated Total Annual Burden Hours: 75,000.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-03132 Filed 2-14-18; 8:45 am]

BILLING CODE 3510-DR-P